DEPARTMENT OF ENERGY

Federal Energy Regulatory Commission

Combined Notice of Filings #1

Take notice that the Commission received the following exempt wholesale generator filings:

Docket Numbers: EG23-59-000.

Applicants: Big Plain Solar, LLC.

Description: Big Plain Solar, LLC submits Notice of Self-Certification of Exempt Wholesale Generator Status.

Filed Date: 1/13/23.

Accession Number: 20230113-5193.

Comment Date: 5 p.m. ET 2/3/23.

Docket Numbers: EG23-60-000.

Applicants: Oak Trail Solar, LLC.

Description: Oak Trail Solar, LLC submits Notice of Self-Certification of Exempt Wholesale Generator Status.

Filed Date: 1/13/23.

Accession Number: 20230113-5194.

Comment Date: 5 p.m. ET 2/3/23.

Docket Numbers: EG23-61-000.

Applicants: Westlands Solar Blue (OZ) Owner, LLC.

Description: Westlands Solar Blue (OZ) Owner, LLC submits Notice of Self-Certification of Exempt Wholesale Generator Status.

Filed Date: 1/13/23.

Accession Number: 20230113-5237.

Comment Date: 5 p.m. ET 2/3/23.

Docket Numbers: EG23-62-000.

Applicants: Chestnut Westside, LLC.

Description: Chestnut Westside, LLC submits Notice of Self-Certification of Exempt Wholesale Generator Status.

Filed Date: 1/13/23.

Accession Number: 20230113-5239.

Comment Date: 5 p.m. ET 2/3/23.

Take notice that the Commission received the following electric rate filings:

Docket Numbers: ER21-2695-004.

Applicants: Lincoln Land Wind, LLC.

Description: Compliance filing: Compliance Filing Revising Tariff Record to be effective 11/1/2021.

Filed Date: 1/13/23.

Accession Number: 20230113-5025.

Comment Date: 5 p.m. ET 2/3/23.

Docket Numbers: ER22-2476-002.

Applicants: Arizona Public Service Company.

Description: Compliance filing: Flowgate Compliance Filing to be effective 1/13/2023.

Filed Date: 1/13/23.

Accession Number: 20230113-5094.

Comment Date: 5 p.m. ET 2/3/23.

Docket Numbers: ER22-2844-001.

Applicants: Duke Energy Carolinas, LLC.

Description: Compliance filing: DEF—Compliance Filing (ProCo) to be effective 12/31/9998.

Filed Date: 1/13/23.

Accession Number: 20230113-5156.

Comment Date: 5 p.m. ET 2/3/23.

Docket Numbers: ER23-828-000.

Applicants: Southwestern Electric Power Company.

Description: § 205(d) Rate Filing: SWEPCO-AECC-OECC (Prairie Grove) Delivery Point Agreement to be effective 12/16/2022.

Filed Date: 1/12/23.

Accession Number: 20230112-5156.

Comment Date: 5 p.m. ET 2/2/23.

Docket Numbers: ER23-829-000.

Applicants: AEP Texas Inc.

Description: § 205(d) Rate Filing: AEPTX-J&R Power DevCo Generation Interconnection Agreement to be effective 12/16/2022.

Filed Date: 1/12/23.

Accession Number: 20230112-5157.

Comment Date: 5 p.m. ET 2/2/23.

Docket Numbers: ER23-830-000.

Applicants: Gravel Road Solar, LLC.

Description: Petition of Gravel Road Solar, LLC for a Limited Waiver of a New York Independent System Operator, Inc. Tariff Provision and for Expedited Action.

Filed Date: 1/12/23.

Accession Number: 20230112-5141.

Comment Date: 5 p.m. ET 1/19/23.

Docket Numbers: ER23-831-000.

Applicants: Southwest Power Pool, Inc.

Description: § 205(d) Rate Filing: 2045R12 Evergy Kansas Central, Inc. NITSA NOA to be effective 1/1/2023.

Filed Date: 1/13/23.

Accession Number: 20230113-5023.

Comment Date: 5 p.m. ET 2/3/23.

Docket Numbers: ER23-832-000.

Applicants: PJM Interconnection, L.L.C.

Description: § 205(d) Rate Filing: Original ISA, SA No. 6751; Queue No. AD1-043 to be effective 12/15/2022.

Filed Date: 1/13/23.

Accession Number: 20230113-5027.

Comment Date: 5 p.m. ET 2/3/23.

Docket Numbers: ER23-833-000.

Applicants: Southwest Power Pool, Inc.

Description: § 205(d) Rate Filing: 4043 WAPA/Upper Missouri G & T Electric Coop Interconnection Agreement to be effective 1/12/2023.

Filed Date: 1/13/23.

Accession Number: 20230113-5052.

Comment Date: 5 p.m. ET 2/3/23.

Docket Numbers: ER23-834-000.

Applicants: Southwest Power Pool, Inc.

Description: § 205(d) Rate Filing: 4044 WAPA/Roughrider Electric/Upper MO G & T Electric Interconnection Agreement to be effective 1/12/2023.

Filed Date: 1/13/23.

Accession Number: 20230113-5055.

Comment Date: 5 p.m. ET 2/3/23.

Docket Numbers: ER23-835-000.

Applicants: Midcontinent Independent System Operator, Inc.

Description: § 205(d) Rate Filing: 2023-01-13_Seasonal Construct Tariff clean-up to be effective 3/15/2023.

Filed Date: 1/13/23.

Accession Number: 20230113-5064.

Comment Date: 5 p.m. ET 2/3/23.

Docket Numbers: ER23-836-000.

Applicants: Liberty Utilities (Granite State Electric) Corp.

Description: § 205(d) Rate Filing: Borderline Sales Rate Sheet Update January 2023 with Request for Notice Waiver to be effective 1/1/2023.

Filed Date: 1/13/23.

Accession Number: 20230113-5085.

Comment Date: 5 p.m. ET 2/3/23.

Docket Numbers: ER23-837-000.

Applicants: Southern Minnesota Municipal Power Agency.

Description: Request for Limited Waiver, et al. of Southern Minnesota Municipal Power Agency.

Filed Date: 1/13/23.

Accession Number: 20230113-5088.

Comment Date: 5 p.m. ET 1/27/23.

Docket Numbers: ER23-838-000.

Applicants: California Independent System Operator Corporation.

Description: § 205(d) Rate Filing: 2023-01-13 Applicant Participating Transmission Owner Agrmt—TransWest Express to be effective 3/15/2023.

Filed Date: 1/13/23.

Accession Number: 20230113-5107.

Comment Date: 5 p.m. ET 2/3/23.

Docket Numbers: ER23-839-000.

Applicants: Public Service Company of Colorado.

Description: § 205(d) Rate Filing: 2023-01-13 TSGT Const Oper Main Agrmt 715-PSCo to be effective 1/14/2023.

Filed Date: 1/13/23.

Accession Number: 20230113-5117.

Comment Date: 5 p.m. ET 2/3/23.

Docket Numbers: ER23-840-000.

Applicants: PacifiCorp.

Description: § 205(d) Rate Filing: Calpine NITSA Rev 16 to be effective 1/1/2023.

Filed Date: 1/13/23.

Accession Number: 20230113-5118.

Comment Date: 5 p.m. ET 2/3/23.

Docket Numbers: ER23-841-000.

Applicants: Southwest Power Pool, Inc.

Description: § 205(d) Rate Filing: Revisions to Att V to Clarify Financial Security Refund Eligibility to be effective 4/1/2023.

Filed Date: 1/13/23.

Accession Number: 20230113-5149.

Comment Date: 5 p.m. ET 2/3/23.

Docket Numbers: ER23-842-000.

Applicants: Big Plain Solar, LLC.

Description: Baseline eTariff Filing: Market-Based Rate Application and Request for Expedited Action to be effective 1/14/2023.

Filed Date: 1/13/23.

Accession Number: 20230113-5167.

Comment Date: 5 p.m. ET 2/3/23.

Docket Numbers: ER23-843-000.

Applicants: Oak Trail Solar, LLC.

Description: Baseline eTariff Filing: Market-Based Rate Application and Request for Expedited Action to be effective 1/14/2023.

Filed Date: 1/13/23.

Accession Number: 20230113-5169.

Comment Date: 5 p.m. ET 2/3/23.

Docket Numbers: ER23-844-000.

Applicants: PJM Interconnection, L.L.C.

Description: § 205(d) Rate Filing: Original ISA, SA No. 6750; Queue No. AD2-033 to be effective 12/15/2022.

Filed Date: 1/13/23.

Accession Number: 20230113-5207.

Comment Date: 5 p.m. ET 2/3/23.

Take notice that the Commission received the following electric securities filings:

Docket Numbers: ES23-26-000; ES23-27-000.

Applicants: South Carolina Generating Company, Inc., Dominion Energy South Carolina, Inc.

Description: Application Under Section 204 of the Federal Power Act for Authorization to Issue Securities of Dominion Energy South Carolina, Inc., et al.

Filed Date: 1/13/23.

Accession Number: 20230113-5155.

Comment Date: 5 p.m. ET 2/3/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2023.
Debbie-Anne A. Reese,
Deputy Secretary.

[FR Doc. 2023-01065 Filed 1-19-23; 8:45 am]

BILLING CODE 6717-01-P